DEPARTMENT OF AGRICULTURE

Forest Service

Divide Ranger District, Rio Grande National Forest; Colorado; Big Moose Vegetation Management Project

AGENCY: Forest Service, Rio Grande National Forest, USDA.

ACTION: Notice of intent to prepare an environmental impact statement.

SUMMARY: The Rio Grande National Forest proposes to harvest and regenerate timber stands killed by or infested with spruce beetle on the Divide Ranger District of the Rio Grande National Forest, and treat portions of the analysis area to promote aspen regeneration and healthy stands of young aspen. The proposed treatments would ensure moving towards or maintaining Forest Plan Desired Conditions and would contribute to societies need for wood fiber.

DATES: Comments concerning the scope of the analysis must be received by April 1, 2009. The draft environmental impact statement is expected November 2009 and the final environmental impact statement is expected March 2010.

ADDRESSES: Send written comments to Paul Hancock, Team Leader, Rio Grande National Forest, Divide Ranger District, 13308 W. Highway 160, Del Norte, CO 81132. Comments may also be sent via e-mail (with subject, Big Moose Vegetation Management Project Public Comment) to comments-rocky-mountain-rio-grande-divide@fs.fed.us or via facsimile to (719) 657-6035.

Comments received in response to this solicitation, including names and addresses of those who comment, will be part of the public record for this proposed action. Comments submitted anonymously will be accepted and considered; however, anonymous comments will not provide the respondent with standing to appeal the subsequent decision.

FOR FURTHER INFORMATION CONTACT: Paul Hancock at (719) 657-3321.

Individuals who use telecommunication devices for the deaf (TDD) may call the Federal Information Relay Service (FIRS) at 1-800-877-8339 between 8 a.m. and 8 p.m., Eastern Time, Monday through Friday.

SUPPLEMENTARY INFORMATION:

Purpose and Need for Action

The purpose of the Big Moose Vegetation Management Project proposal is to meet the desired conditions and objectives of the Forest Plan. Action is needed to maintain or move existing forest conditions toward desired conditions. The proposed treatments would ensure moving towards or maintaining Forest Plan Desired Conditions and would contribute to societies need for wood fiber.

Proposed Action

The Rio Grande National Forest proposes to harvest and regenerate timber stands killed by or infested with spruce beetle on the Divide Ranger District southwest of Creede, Colorado, and treat portions of the analysis area to promote aspen regeneration and healthy stands of young aspen.

In order to promote aspen regeneration and healthy stands of young aspen, we propose to use prescribed fire. In some areas, prescribed fire would be used in conjunction with timber harvest methods to promote aspen regeneration. Other areas not treated with timber harvesting would be treated with prescribed fire to create a mosaic landscape where fuel loads would be reduced and openings would be created to promote additional areas for aspen regeneration.

Most of the proposed treatment areas would use the existing transportation system. New temporary road construction would occur. This work would be needed for access, improved safety, and additional resource protection. Non-system and new temporary roads would also be closed following their use.

Responsible Official

Thomas Malecek, District Ranger, Divide Ranger District, 13308 W. Highway 160, Del Norte, CO 81132.

Nature of Decision To Be Made

An environmental impact statement (EIS) that discloses the environmental consequences of implementing the proposed action and alternatives to that action will be prepared. A separate Record of Decision (ROD) will explain the responsible official's decision of whether or not to implement some level of timber sale harvest and other proposed activities on all, part, or none of the Analysis Area given considerations of multiple-use goals and objectives.

Scoping Process

This notice of intent initiates the scoping process, which guides the development of the environmental impact statement. The Rio Grande National Forest invites public comment and participation regarding this project and subsequent EIS through scoping efforts in the form of this notice in the Federal Register; the Schedule of Proposed Actions (SOPA); public notice in the Valley Courier—the newspaper of record; and letters sent to potentially concerned public, tribal governments, and State and other Federal agencies. Scoping meetings will be announced in the Valley Courier. Information will also be posted on the Rio Grande National Forest Web site as the project progresses. Comments received during these scoping efforts will be considered in this EIS.

It is important that reviewers provide their comments at such times and in such manner that they are useful to the agency's preparation of the environmental impact statement. Therefore, substantive comments should be provided prior to the close of the comment period and should clearly articulate the reviewer's ability to participate in subsequent administrative appeal or judicial review.

Authority: 40 CFR 1501.7 and 1508.22, 36 CFR 220.5(b) and Forest Service Handbook 1909.15, section 21.

Dated: February 19, 2009.
Thomas Malecek,
District Ranger/Field Office Manager.

[FR Doc. E9-4267 Filed 2-27-09; 8:45 am]

BILLING CODE 3410-11-P